FEDERAL RESERVE SYSTEM

Change in Bank Control Notices; Acquisition of Shares of Bank or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 16, 2001.

A. Federal Reserve Bank of Atlanta (Cynthia C. Goodwin, Vice President) 1000 Peachtree Street, N.E., Atlanta, Georgia 30309-4470:

1. Wilhelmina Parish Belcer, Rober t Allen Bowen, Joseph Dennis DuRant, Bobby Lamar George, Don Williams Hersman, and Michael Shay McCormick, all of Bonifay, Florida; James Ferris Adams, Robert Earl Black, and Brian Keiffer James, all of Destin, Florida; Orilious Gaither Banks and Franklin Lee Fisher of Ft. Walton Beach, Florida; Michael Prewitt McCann and Charles Richard Vawter, Jr. of Sylacauga, Alabama; Guy Fletcher Medley, Dothan, Alabama; Machael Alan Medley, Louisville, Alabama; Rupert Earl Phillips, Baker, Florida; Claude Carroll Royster, III, Shalimar, Florida; and Donald Terry Tillman, Ariton, Alabama; to acquire voting shares of Bonifay Holding Company, Inc., Bonifay, Florida, and thereby indirectly acquire voting shares of The Bank of Bonifay, Bonifay, Florida.

B. Federal Reserve Bank of Minneapolis (JoAnne F. Lewellen, Assistant Vice President) 90 Hennepin Avenue, Minneapolis, Minnesota 55480-0291:

1. Davis Bancshares Limited Partnership, Rapid City, South Dakota; to retain voting shares of Belle Fourche Bancshares, Inc., Belle Fourche, South Dakota, and thereby indirectly retain voting shares of Pioneer Bank & Trust, Belle Fourche, South Dakota.

2. Joseph M. Skophammer Trust and Nancy L. Skophammer, both from Hartland, Minnesota; to acquire voting shares of Hartland Bancshares, Inc., Hartland, Minnesota, and thereby indirectly acquire voting shares of Farmers State Bank of Hartland, Hartland, Minnesota.

C. Federal Reserve Bank of Kansas City (D. Michael Manies, Assistant Vice President) 925 Grand Avenue, Kansas City, Missouri 64198-0001:

1. Thomas G. Fitzgerald, James G. Fitzgerald, Joyce M. Fitzgerald, Jane M. Fitzgerald, the Andrew James Fitzgerald Irrevocable Trust Dated December 15, 1982, the Timothy Edward Fitzgerald Irrevocable Trust Dated May 1, 1983, the Lauren Webb Fitzgerald Irrevocable Trust Dated May 1, 1983, and the Thomas Gosselin Fitzgerald Jr. Irrevocable Trust Dated January 3, 1985, all of Inverness, Illinois, to acquire voting shares of First Bancorp of Durango, Inc., Durango, Colorado, and thereby indirectly acquire voting shares of The First National Bank of Durango, Durango, Colorado.

Board of Governors of the Federal Reserve System, June 26, 2001.
Robert deV. Frierson,
Associate Secretary of the Board.

[FR Doc. 01-16511 Filed 6-29-01; 8:45 am]

BILLING CODE 6210-01-P